NATIONAL SCIENCE FOUNDATION

Special Emphasis Panel in Information and Intelligent Systems; Notice of Meeting

In accordance with the Federal Advisory Committee Act (Pub. L. 92-463, as amended), the National Science Foundation announces the following meeting.

Name: Special Emphasis Panel in Information and Intelligent Systems (1200).

Date/Time: February 1-4, 2000 8:30 am-5:00 pm.

Place: The River Inn Hotel, 924 25th Street, N.W., Washington, D.C. 20037.

Type of Meeting: Closed.

Contact Person: Dr. Ephraim Glinert, Acting Division Director National Science Foundation, 4201 Wilson Boulevard, Arlington, VA 22230 (703) 306-1926.

Minutes: May be obtained from the contact person listed above.

Purpose of Meeting: To provide advice and recommendations concerning proposals submitted to NSF for financial support.

Agenda: To review and evaluate Information and Data Management Program proposals as part of the selection process for awards.

Reason for Closing: The proposals being reviewed include information of a proprietary or confidential nature, including technical information, financial data, such as salaries; and personal information concerning individuals associated with the proposals. These matters are exempt under 5 U.S.C. 552b(c), (4) and (6) of the Government in the Sunshine Act.

Dated: January 13, 2000.
Karen J. York,
Committee Management Officer.

[FR Doc. 00-1232 Filed 1-18-00; 8:45 am]

BILLING CODE 7555-01-M